DEPARTMENT OF COMMERCE

National Oceanic and Atmospheric Administration

Agency Information Collection Activities; Submission to the Office of Management and Budget (OMB) for Review and Approval; Comment Request; NOAA Financial Assistance Performance Progress Reports

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. This notice pertains to a revision and extension of the approved collection of information for NOAA Financial Assistance Performance Progress Reports. The purpose of this notice is to allow for 60 days of public comment preceding submission of the collection to OMB.

DATES: To ensure consideration, comments regarding this proposed information collection must be received on or before February 26, 2024.

ADDRESSES: Interested persons are invited to submit written comments to Adrienne Thomas, NOAA PRA Officer, at NOAA.PRA@noaa.gov. Please reference OMB Control Number 0648-0718 in the subject line of your comments. Do not submit Confidential Business Information or otherwise sensitive or protected information.

FOR FURTHER INFORMATION CONTACT: Requests for additional information or specific questions related to collection activities should be directed to Tom Barry, Federal Program Officer, NOAA Marine Debris Program, 1305 East-West Highway, Office of Response and Restoration, SSMC4, Rm. 10239, N/ORR5, Silver Spring, MD 20910, (202) 870-2863, and tom.barry@noaa.gov.

SUPPLEMENTARY INFORMATION:

I. Abstract

This is a request for revision and extension to an approved collection of information under the Paperwork Reduction Act, 44 U.S.C. 3501 et seq., and implementing regulations at 5 CFR part 1320. This previously-approved information collection assists NOAA in the administration and evaluation of financial assistance awards made by the NOAA Marine Debris Program (MDP), NOAA Coral Reef Conservation Program (CRCP), and the NOAA Restoration Center (RC).

The revision, which is described in more detail below, is only applicable for the NOAA MDP financial assistance awards, and previous information collections for NOAA Coral Reef Conservation Program (CRCP) and NOAA Restoration Center (RC) remain unchanged. There are no changes to the NOAA CRCP or NOAA RC forms that were previously approved, including the RC Progress Reports (Initial, Semi-Annual, and Final), RC Administrative Progress Reports (Initial, Semi-Annual, and Final), and CRCP Semi-Annual Reports. However, the extension applies to the entire previously-approved information collection.

Every year, the NOAA MDP, the NOAA CRCP, and the NOAA RC each support a variety of initiatives specific to their individual authorizations and programmatic mandates. This support is made substantially through grants and cooperative agreements, the terms and conditions of which require regular progress reporting and communication of project accomplishments to the agency. This information collection identifies what is to be provided in these reports, and aims to assist recipients in fulfilling their responsibilities in meeting interim and final progress report requirements. This information is also necessary for NOAA to effectively oversee the expenditure of public funds awarded through these programs, to ensure both cost-effectiveness and programmatic goals are met.

The NOAA RC provides technical and financial assistance to identify, develop, implement, and evaluate community-driven habitat restoration projects. Awards are made as grants or cooperative agreements under the authority of the Magnuson-Stevens Fishery Conservation and Management Act of 2006, 16 U.S.C. 1891a and the Fish and Wildlife Coordination Act, 16 U.S.C. 661, as amended by the Reorganization Plan No. 4 of 1970.

The NOAA CRCP operates under authorization from the Coral Reef Conservation Act of 2000, 16 U.S.C. 6401 et seq. This act authorizes the NOAA CRCP to conserve and restore the condition of United States coral reef ecosystems; to promote the science-based management and sustainable use of coral reef ecosystems to benefit local communities and the Nation; to develop sound scientific information on the condition of coral reef ecosystems and the threats to such ecosystems; to assist in the preservation of coral reefs by supporting science-based, consensus-driven, and community-based coral reef management; to provide financial resources, technical assistance, and scientific expertise; to establish a formal mechanism for the collecting and allocating of monetary donations from the private sector to be used for coral reef conservation projects; to support rapid response to exigent circumstances that pose immediate and long-term threats to coral reefs; and to serve as a model for advancing international efforts to monitor, conserve, and restoral coral reef ecosystems.

The NOAA MDP supports national and international efforts to research, prevent, and reduce the impacts of marine debris. The NOAA MDP is a centralized office within NOAA that coordinates and supports activities, both within the bureau and with other federal agencies that address marine debris and its impacts. In addition to inter-agency coordination, NOAA MDP uses partnerships with state and local agencies, tribes, non-governmental organizations, academia, and industry to investigate and solve the problems that stem from marine debris through removal, research, prevention, and assessment activities, in order to protect and conserve our nation's marine environment and coastal economies, and to ensure navigation safety. In large part, these partnerships are made through grants, cooperative agreements, contracts, MOUs or are simply informal technical assistance arrangements.

The Marine Debris Research, Prevention, and Reduction Act authorizes NOAA MDP to enter into cooperative agreements and contracts and provide financial assistance in the form of grants to carry out the purposes of the Act—namely to identify, determine sources of, assess, reduce, and prevent marine debris and its adverse impacts on the marine environment and navigation safety. 33 U.S.C. 1951, 1952. To date, both competitive and non-competitive funding opportunities have been implemented by NOAA MDP to provide federal funding to non-federal applicants for activities to carry out the purposes of the Act.

The terms and conditions of MDP grants and cooperative agreements require regular progress reporting and communication of project accomplishments to the agency. Grant reporting is necessary for NOAA to effectively oversee the expenditure of public funds, and to ensure both the cost-effectiveness of funded projects and that programmatic goals are met.

This information collection revision clarifies agency reporting requirements, and aims to assist recipients in fulfilling their federal grant responsibilities. NOAA MDP proposes to revise and clarify grant performance progress report (PPR) instructions and add a table to the PPR that will be used for recipients whose activities span multiple states. NOAA MDP proposes to add the collection of performance measure information in a spreadsheet that captures required project metrics at a finer geographic resolution than would otherwise be possible using the PPR. NOAA MDP also proposes collection of additional metrics related to certain activities from large marine debris removals and pre- and post-removal habitat monitoring for grantees who perform these activities as part of their NOAA MDP award. The additional collection of project-level data, including project-level location and implementation data, aligns with the guidance provided in Memorandum M-22-12, Advancing Effective Stewardship of Taxpayer Resources and Outcomes in the Implementation of the Infrastructure Investment and Jobs Act (IIJA) in order to ensure robust and transparent reporting of IIJA investments.

II. Method of Collection

The information will be collected electronically.

III. Data

OMB Control Number: 0648-0718.

Form Number(s): None.

Type of Review: Regular submission. Revision and extension of a currently approved information collection.

Affected Public: Individuals or households; Business or other for-profit organizations; Not-for-profit institutions; State, Local, or Tribal government.

Estimated Number of Respondents: 645.

Estimated Time per Response: MDP Performance Progress Report: 8 hours; MDP Performance Progress Report Table: 0.25 hours; MDP Companion Tracker: 1 hour; MDP Additional Metrics Trackers: 3 hours; CRCP Semi-Annual Reports: 10 hours; RC Progress Report: Initial—9.5 hours; Semi-Annual—5.5 hours; and Final—9.75 hours; RC Administrative Progress Reports: Initial—6 hours; Semi-Annual—2.75 hours; and Final—5.5 hours.

Estimated Total Annual Burden Hours: 4,800.

Estimated Total Annual Cost to Public: 0.

Respondent's Obligation: Required to Obtain or Retain Benefits.

Legal Authority: The Marine Debris Research, Prevention, and Reduction Act (33 U.S.C. 1951 et seq.) as amended by the Marine Debris Act Amendments of 2012 (Pub. L. 112-213, Title VI, Sec. 603, 126 Stat. 1576, December 20, 2012), Save Our Seas Act of 2018 (Pub. L. 115-265), and Save Our Seas 2.0 Act of 2020 (Pub. L. 116-224); Magnuson-Stevens Fishery Conservation and Management Act of 2006, 16 U.S.C. 1891a and the Fish and Wildlife Coordination Act, 16 U.S.C. 661, as amended by the Reorganization Plan No. 4 of 1970; Coral Reef Conservation Act of 2000 (16 U.S.C. 6401 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-28503 Filed 12-26-23; 8:45 am]

BILLING CODE 3510-JS-P